DEPARTMENT OF DEFENSE

Department of the Navy

Notice of Intent To Grant Exclusive Patent License: Evolva, Inc.

AGENCY: Department of the Navy, DOD.

ACTION: Notice.

SUMMARY: The Department of the Navy herby gives notice of its intent to grant to Evolva, Inc., a revocable, nonassignable, exclusive license to practice in the field of use of thermoset compositions for composites manufacturing in the United States and its territories, the Government-owned inventions described in U.S. Patent No. 8,853,343 entitled: Thermoset compositions from plant polyphenols; U.S. Patent No. 8,921,614 entitled: Selective deoxygenation of hydroxybenzaldehydes; U.S. Patent No. 8,993,688 entitled: Polyphenols and high-performance resins from syringaldehyde; U.S. Patent No. 8,993,689 entitled: Polyphenols and high-performance resins from syringaldehyde; U.S. Patent No. 9,018,314 entitled: Polyphenols and high-performance resins from syringaldehyde; U.S. Patent No. 9,051,414 entitled: Polyphenols and high-performance resins from syringaldehyde; U.S. Patent No. 9,127,115 entitled: Polyphenols and high-performance resins from syringaldehyde; and, U.S. Patent No. 9,187,591 entitled: Polyphenols and high-performance resins from syringaldehyde.

DATES: Anyone wishing to object to the grant of this license must file written objections along with supporting evidence, if any, not later than June 21, 2017.

ADDRESSES: Written objections should be directed to Naval Air Warfare Center Weapons Division, Code 400000D, 1900 N. Knox Road Stop 6306, China Lake, CA 93555-6106.

FOR FURTHER INFORMATION CONTACT: Dylan Riley, Director of Technology Transfer, Naval Air Warfare Center Weapons Division, Code 498400D, 1900 N. Knox Road Stop 6312, China Lake, CA 93555-6106, telephone 760-939-2105, FAX 760-939-1210, Email: Dylan.riley@navy.mil.

Authority: 35 U.S.C. 207, 37 CFR part 404.

Dated: May 17, 2017.
A. M. Nichols,
Lieutenant Commander, Judge Advocate General's Corps, U.S. Navy, Federal Register Liaison Officer.

[FR Doc. 2017-11633 Filed 6-5-17; 8:45 am]

BILLING CODE 3810-FF-P